DEPARTMENT OF TRANSPORTATION

Federal Aviation Administration

Commercial Space Transportation Advisory Committee—Open Meeting

AGENCY: Federal Aviation Administration (FAA), DOT.

ACTION: Notice of Commercial Space Transportation Advisory Committee open meeting.

SUMMARY: Pursuant to Section 10(a)(2) of the Federal Advisory Committee Act (Pub. L. 92-463, 5 U.S.C. App. 2), notice is hereby given of a meeting of the Commercial Space Transportation Advisory Committee (COMSTAC). The meeting will take place on Thursday, October 29, 2009, starting at 8 a.m. at the Marriott Metro Center Hotel, 775 12th Street, NW., Washington, DC 20005. This will be the 50th meeting of the COMSTAC.

The proposed agenda for this meeting will feature information about 25 years of COMSTAC; and discussions will focus on

—the Committee's work on a White Paper entitled DoD Impact on U.S. Commercial Launch Services Competitiveness;

—the Committee's work on the National Space Policy Review;

—the Augustine Panel and the implications for the U.S. commercial space transportation industry; and

—orbital debris mitigation, industry impact, costs, and the role of the FAA.

Interested members of the public may submit relevant written statements for the COMSTAC members to consider under the advisory process. Statements may be concerning the issues and agenda items mentioned above and/or additional issues that may be relevant for the U.S. commercial space transportation industry. Interested parties wishing to submit written statements should contact Brenda Parker, DFO, (the Contact Person listed below) in writing (mail or e-mail) by October 2, 2009, so that the information can be made available to COMSTAC members for their review and consideration prior to the October 29th meeting. Written statements should be supplied in the following formats: one hard copy with original signature and/or one electronic copy via e-mail.

Subject to approval, a portion of the October 29th meeting will be closed to the public (starting at 3:45 pm).

An agenda will be posted on the FAA Web site at http://ast.faa.gov. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Brenda Parker (AST-100), Office of Commercial Space Transportation (AST), 800 Independence Avenue, SW., Room 331, Washington, DC 20591, telephone (202) 267-3674; E-mail brenda.parker@faa.gov. Complete information regarding COMSTAC is available on the FAA Web site at: http://www.faa.gov/about/office_org/headquarters_offices/ast/advisory_committee/.

Issued in Washington, DC, September 4, 2009.
George C. Nield,
Associate Administrator for Commercial Space Transportation.

[FR Doc. E9-21905 Filed 9-9-09; 8:45 am]

BILLING CODE P